ENVIRONMENTAL PROTECTION AGENCY

[OPP-2003-0222; FRL-7316-3]

Issuance of Experimental Use Permits

AGENCY: Environmental Protection Agency (EPA).

ACTION: Notice.

SUMMMARY: EPA has granted experimental use permits (EUP) to the following pesticide applicants. An EUP permits use of a pesticide for experimental or research purposes only in accordance with the limitations in the permit.

FOR FURTHER INFORMATION CONTACT: For 69592-EUP-1: Susanne Cerrelli, Biopesticides and Pollution Prevention Division (7511C), Office of Pesticide Programs, Environmental Protection Agency, 1200 Pennsylvania Ave., NW., Washington, DC 20460-0001; telephone number: (703) 308-8077; e-mail address: cerrelli.susanne@epa.gov, or

For 70515-EUP-3: Carol E. Frazer, Biopesticides and Pollution Prevention Division (7511C), Office of Pesticide Programs, Environmental Protection Agency, 1200 Pennsylvania Ave., NW., Washington, DC 20460-0001; telephone number: (703) 308-8810; e-mail address: frazer.carol@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the persons listed under FOR FURTHER INFORMATION CONTACT.

B. How Can I Get Copies of this Document and Other Related Information?

1. Docket. EPA has established an official public docket for this action under docket identification (ID) number OPP-2003-0222. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. EUP

EPA has issued the following EUPs:

1. 69592-EUP-1. Issuance. AgraQuest, Inc, 1530 Drew Ave., Davis, CA 95616. This EUP allows the use of 2,371.2 pounds of the fungicide Bacillus pumilus strain QST2808 on 3,955 total acres of brassica, bulb vegetables, cereal grains, cucurbits, fields of roses, forestry, fruiting vegetables, grapes, grass seed, hops, landscape, leafy vegetables, legume vegetables, mint, peanuts, pome fruits, root/tuber vegetables, stone fruits, strawberries, and sugarbeets to obtain phytotoxicity data over a large geographical area and to evaluate the control of various plant pathogens including: Bremia lactucae, Cercospora spp., Erysiphe spp., Oidiopsis taurica, Peronospora parasitica, Puccinia spp., Sclerotinia spp., Sphaerotheca macularis, Uncinula necator, Uromyces phaseoli, and Phytophthora spp. The program is authorized only in the States of Arizona, California, Colorado, Georgia, Florida, Idaho, Indiana, Michigan, Minnesota, North Carolina, North Dakota, New Jersey, New Mexico, New York, Oklahoma, Oregon, Pennsylvania, Texas, Virginia, Washington, Wisconsin, and West Virginia. The EUP is effective from June 6, 2003 to June 30, 2005. A temporary exemption from the requirement of a tolerance for residues of the Bacillus pumilus strain QST2808 in or on all agricultural commodities has been established.

2. 70515-EUP-3. Issuance. Nutra-Park Inc., 3225 Deming Way, Suite 140, Middleton, WI 53562. This EUP allows the use of 220 gallons of the growth regulator NPI 100 10EC (containing the active ingredient lysophosphatidylethanolamine (LPE)) on 5,000 acres of apples, apricots, avocados, bananas, blackberries, blueberries, boysenberries, cherries, coffee, crabapples, cranberries, currants, eggplant, grapefruits, grapes, kiwis, lemons, limes, mandarins, mangos, mineolas, oranges, peaches, pears, peppers, pimentos, pineapples, plums, pomegranates, pummelos, raspberries, strawberries, tangelos, tangerines, and tomatoes to evaluate the control of ripening and shelf life. The program is authorized only in the States of Arizona, California, Florida, Georgia, Massachusetts, Oregon, South Carolina, Washington, and Wisconsin. The EUP is effective from July 1, 2003 to June 30, 2005. An exemption from the requirement of a tolerance has been established for residues of the active ingredient in or on all food commodities.

Authority: 7 U.S.C. 136c.

List of Subjects

Environmental protection, Experimental use permits.

Dated: August 8, 2003.
Janet L. Andersen,
Director, Biopesticides and Pollution Prevention Division, Office of Pesticide Programs.

[FR Doc. 03-21353 Filed 8-19-03; 8:45 am]

BILLING CODE 6560-50-S>